DEPARTMENT OF ENERGY

[GDO Docket No. EA-461-A]

Application for Renewal of Authorization To Export Electric Energy; Saavi Energy Solutions, LLC

AGENCY: Grid Deployment Office, Department of Energy.

ACTION: Notice of application.

SUMMARY: Saavi Energy Solutions, LLC (the Applicant or Saavi Energy Solutions) has applied for renewed authorization to transmit electric energy from the United States to Mexico pursuant to the Federal Power Act.

DATES: Comments, protests, or motions to intervene must be submitted on or before November 13, 2023.

ADDRESSES: Comments, protests, motions to intervene, or requests for more information should be addressed by electronic mail to Electricity.Exports@hq.doe.gov.

FOR FURTHER INFORMATION CONTACT: Christina Gomer, (240) 474-2403, electricity.exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On April 10, 2023, the authority to issue such orders was delegated to the DOE's Grid Deployment Office (GDO) by Delegation Order No. S1-DEL-S3-2023 and Redelegation Order No. S3-DEL-GD1-2023.

On November 19, 2018, DOE issued Order No. EA-461 authorizing Saavi Energy Solutions to transmit electric energy from the United States to Mexico as a power marketer. On August 18, 2023, Saavi Energy Solutions filed an application with DOE (Application or App.) for renewal of their export authority for an additional five-year term. App. at 1.

In its Application, Saavi Energy Solutions states that it “does not own any electric generation or transmission facilities and, as a power marketer, does not hold a franchise or service territory or native load obligation.” App. at 5. Moreover, the Applicant notes that none of its “affiliates owns any electric transmission facilities other than the limited and discrete interconnection facilities described [in its Application], and Saavi Energy Solutions is not affiliated with an entity that holds a franchise or service territory.” Id. Saavi Energy Solutions represents that it will “export electricity purchased from electric utilities, qualifying small power production facilities, cogeneration facilities, federal power marketing agencies, and other sellers as those terms are defined in Sections 3(22), (17), (18) and (19) of the FPA.” Id. Saavi Energy Solutions asserts DOE has recognized that power purchased by a power marketer is, by definition, surplus to the needs of the selling entities and with no native load obligations, the power marketer is free to sell its power portfolio on the open market domestically or as an export. Thus, the Applicant notes DOE has previously determined an export of electricity occurring under such circumstances will not impair the sufficiency of electric supply within the U.S. App. at 5-6.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning Saavi Energy Solutions' Application should be clearly marked with GDO Docket No. EA-461-A. Additional copies are to be provided directly to Daniel Delgado and Liliana Gonzalez, Saavi Energy Solutions, LLC, 24 Greenway Plaza, Suite 1205, Houston, Texas 77046, daniel.delgado@saavienergia.com, Liliana.gonzalez@saavienergia.com, and mexcommgrp@saavienergia.com, and Joshua R. Robichaud and Stephen C. Wald, Bracewell LLP, 2001 M Street NW, Suite 900, Washington, DC 20036, josh.robichaud@bracewell.com and stephen.wald@bracewell.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, on the program website at /www.energy.gov/gdo/pending-applications-0 or by emailing Electricity.Exports@hq.doe.gov.

Signing Authority

This document of the Department of Energy was signed on October 6, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 6, 2023.
Treena V. Garrett,
Federal Register Liaison Officer, U.S. Department of Energy.

[FR Doc. 2023-22596 Filed 10-11-23; 8:45 am]

BILLING CODE 6450-01-P